DEPARTMENT OF TRANSPORTATION

Federal Aviation Administration

14 CFR Part 39

[Docket No. 2002-NM-308-AD; Amendment 39-13026; AD 2003-03-02]

RIN 2120-AA64

Airworthiness Directives; Boeing Model 767 Series Airplanes

AGENCY: Federal Aviation Administration, DOT.

ACTION: Final rule; request for comments.

SUMMARY: This amendment supersedes an existing airworthiness directive (AD), applicable to all Boeing Model 767 series airplanes, that currently requires repetitive detailed and eddy current inspections to detect cracks of certain midspar fuse pins, and replacement of any cracked midspar fuse pin with a new fuse pin. This amendment reduces certain compliance times for certain inspections, expands the detailed and eddy current inspections, and limits the applicability in the existing AD. This amendment also provides for optional terminating action, which ends the repetitive inspections. The actions specified in this AD are intended to prevent loss of the strut and engine due to corrosion damage and cracking of both fuse pins on the same strut. This action is intended to address the identified unsafe condition.

DATES: Effective February 13, 2003.

The incorporation by reference of a certain publication, as listed in the regulations, is approved by the Director of the Federal Register as of February 13, 2003.

The incorporation by reference of Boeing Alert Service Bulletin 767-54A0062, dated April 14, 1994, as listed in the regulations, was approved previously by the Director of the Federal Register as of June 10, 1994 (59 FR 27229, May 26, 1994).

Comments for inclusion in the Rules Docket must be received on or before March 31, 2003.

ADDRESSES: Submit comments in triplicate to the Federal Aviation Administration (FAA), Transport Airplane Directorate, ANM-114, Attention: Rules Docket No. 2002-NM-308-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2002-NM-308-AD” in the subject line and need not be submitted in triplicate. Comments sent via the Internet as attached electronic files must be formatted in Microsoft Word 97 for Windows or ASCII text.

The service information referenced in this AD may be obtained from Boeing Commercial Airplane Group, PO Box 3707, Seattle, Washington 98124-2207. This information may be examined at the FAA, Transport Airplane Directorate, 1601 Lind Avenue, SW., Renton, Washington; or at the Office of the Federal Register, 800 North Capitol Street, NW., suite 700, Washington, DC.

FOR FURTHER INFORMATION CONTACT: Suzanne Masterson, Aerospace Engineer, Airframe Branch, ANM-120S, FAA, Seattle Aircraft Certification Office, 1601 Lind Avenue, SW., Renton, Washington 98055-4056; telephone (425) 227-2772; fax (425) 227-1181.

SUPPLEMENTARY INFORMATION: On May 18, 1994, the FAA issued AD 94-11-02, amendment 39-8918 (59 FR 27229, June 10, 1994), applicable to all Boeing Model 767 series airplanes, to require repetitive detailed visual and eddy current inspections to detect cracks of certain midspar fuse pins, and replacement of any cracked midspar fuse pin with a new fuse pin. That action was prompted by reports of longitudinal fatigue cracks on certain midspar fuse pins installed on Boeing Model 767 series airplanes. The actions required by that AD are intended to prevent loss of the strut and engine due to cracking of both fuse pins on the same strut.

Actions Since Issuance of Previous Rule

Since the issuance of AD 94-11-02, an operator has reported a fractured outboard midspar fuse pin (part number (P/N) 311T3102-1) of the left engine pylon, which was found during a scheduled maintenance visit. The fuse pin also had corrosion on the pin and within the bore. The airplane had accumulated 9,456 total flight cycles, and 38,911 total flight hours. The initial inspection for airplanes with midspar fuse pins having P/N 311T3102-1, as required by AD 94-11-02, begins prior to the accumulation of 15,000 total landings on the fuse pin, or within 90 days after the effective date of the existing AD, whichever occurs later. In light of this information, the FAA finds it necessary to reduce the compliance time for the initial inspection for airplanes with midspar fuse pins. This AD also includes inspecting for corrosion of the midspar fuse pins, in addition to cracks, and limits the applicability in the existing AD.

Explanation of Relevant Service Information

The FAA has reviewed and approved Boeing Alert Service Bulletin 767-54A0062, Revision 5, dated November 11, 2002 (Boeing Alert Service Bulletin 767-54A0062, dated April 14, 1994, was referenced in the existing AD for accomplishment of the actions specified). Revision 5 of the service bulletin reduces certain compliance times, references certain actions specified in related service bulletins that would eliminate the need for the repetitive inspections, and clarifies certain procedures. Revision 5 describes procedures for repetitive detailed and eddy current inspections for cracks and corrosion of certain midspar fuse pins, and replacement of any cracked midspar fuse pin with a new fuse pin. The service bulletin also describes procedures for a magnetic particle inspection to verify cracks if the fuse pins are removed from the strut. Accomplishment of the actions specified in the service bulletin is intended to adequately address the identified unsafe condition.

Related ADs

This AD provides an optional terminating action for the repetitive inspections by accomplishment of the modification of the nacelle strut and wing structure required by the following ADs:

AD 2000-19-09, amendment 39-11910 (65 FR 58641, October 17, 2000), which is applicable to certain Boeing Model 767 series airplanes powered by Rolls-Royce RB211 series engines;

AD 2001-02-07, amendment 39-12091 (66 FR 8085, March 5, 2001), which is applicable to certain Boeing Model 767 series airplanes powered by Pratt & Whitney engines; and

AD 2001-06-12, amendment 39-12159 (66 FR 17492, May 7, 2001), which is applicable to certain Boeing Model 767 series airplanes powered by General Electric engines.

All the previous ADs require prior or concurrent accomplishment of the following service bulletins, which are specified in Service Bulletin 767-54A0062, Revision 5, as the appropriate sources of service information for accomplishment of the rework of the side load fitting and tension fasteners, as applicable, and replacement of midspar fuse pins or modification of the nacelle strut and wing structure. Doing either of these actions would eliminate the need for the repetitive inspections specified in Service Bulletin 767-54A0062, Revision 5.

• Boeing Service Bulletin 767-54-0069, Revision 1, dated January 29, 1998, describes procedures for rework of the side load fitting and tension fasteners, as applicable, and replacement of midspar fuse pins with new, higher-strength midspar fuse pins. The rework involves increasing the size of the tension bolts of the inboard and outboard side load fittings. The replacement also involves installing new, higher-strength bolts and radius fillers in the side load fittings and backup support structure, and installing higher-strength fasteners common to the front spar and rib number 8 rib post.

• Boeing Service Bulletin 767-54-0080, dated October 7, 1999, describes procedures for modification of the nacelle strut and wing structure. The modification consists of replacing many of the significant load-bearing components of the strut (e.g., the side link fittings assemblies, the midspar fittings, the side load fittings, certain fuse bolt assemblies) with improved components.

• Boeing Service Bulletin 767-54-0081, dated July 29, 1999, describes procedures for modification of the nacelle strut and wing structure. The modification consists of replacing many of the significant load-bearing components of the strut and wing (e.g., the side link fittings, the midspar fittings, the side load fittings, certain fuse pin assemblies) with improved components.

• Boeing Service Bulletin 767-54-0082, dated October 28, 1999, describes procedures for modification of the nacelle strut and wing structure. The modification consists of replacing many of the significant load-bearing components of the strut-to-wing attachment (e.g., midspar fuse pins, side links, side link fuse pins, diagonal brace, and diagonal brace fuse pins) with improved components.

Explanation of Requirements of Rule

Since an unsafe condition has been identified that is likely to exist or develop on other airplanes of this same type design, this AD supersedes AD 94-11-02 to continue to require repetitive detailed and eddy current inspections to detect cracks of certain midspar fuse pins, and replacement of any cracked midspar fuse pin with a new fuse pin. This AD reduces certain compliance times for certain inspections, expands certain detailed and eddy current inspections, and limits the applicability in the existing AD.

Difference Between This AD and Service Bulletin

Boeing Alert Service Bulletin 767-54A0062, Revision 5, specifies that all actions for which the Boeing 767 Airplane Maintenance Manual (AMM) is specified as the appropriate source of service information for work instructions may instead be done according to an “operator's equivalent procedure.” However, this AD requires that engine removal and support, when any fuse pin is removed from a strut, must be accomplished per the procedures specified the applicable section of the AMM. An “operator's equivalent procedure” may be used only if approved as an alternative method of compliance per paragraph (o)(1) of this AD.

Explanation of Change Made to Existing Requirements

The FAA has changed all references to a “detailed visual inspection” in the existing AD to “detailed inspection” in this AD. Additionally, a note has been added to this AD to define that inspection.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-308-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-8918 (59 FR 27229, June 10, 1994), and by adding a new airworthiness directive (AD), amendment 39-13026, to read as follows:

2003-03-02 Boeing: Amendment 39-13026. Docket 2002-NM-308-AD. Supersedes AD 94-11-02, Amendment 39-8918.

Applicability: Model 767-200, -300, and -300F series airplanes, as listed in Boeing Alert Service Bulletin 767-54A0062, Revision 5, dated November 11, 2002; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (o)(1) of this AD. The request should include an assessment of the effect of the modification, alteration, or repair on the unsafe condition addressed by this AD; and, if the unsafe condition has not been eliminated, the request should include specific proposed actions to address it.

Compliance: Required as indicated, unless accomplished previously.

To prevent loss of the strut and engine due to corrosion damage and cracking of both fuse pins on the same strut, accomplish the following:

Restatement of Requirements of AD 94-11-02

Repetitive Inspections

(a) For airplanes having midspar fuse pins, part number (P/N) 311T3102-1: Perform a detailed inspection and an eddy current inspection to detect cracks of the midspar fuse pins, in accordance with Boeing Alert Service Bulletin 767-54A0062, dated April 14, 1994; or Boeing Alert Service Bulletin 767-54A0062, Revision 5, dated November 11, 2002; at the time specified in paragraph (a)(1), (a)(2), (a)(3), or (a)(4) of this AD, as applicable. Repeat these inspections thereafter at intervals not to exceed 3,000 landings until accomplishment of the initial inspections specified in paragraph (h) of this AD.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) For airplanes having midspar fuse pins that have accumulated 18,000 or more total landings as of June 10, 1994 (the effective date of AD 94-11-02, amendment 39-8918), accomplish the inspections within 60 days after June 10, 1994.

(2) For airplanes having midspar fuse pins that have accumulated 15,000 or more total landings, but less than 18,000 total landings, as of June 10, 1994, accomplish the inspections within 90 days after June 10, 1994.

(3) For airplanes having midspar fuse pins that have accumulated 10,000 or more total landings, but less than 15,000 total landings, as of June 10, 1994, accomplish the inspections within 120 days after June 10, 1994.

(4) For airplanes having midspar fuse pins that have accumulated less than 10,000 total landings as of June 10, 1994, accomplish the inspections prior to the accumulation of 10,000 total landings on the fuse pin, or within 120 days after June 10, 1994, whichever occurs later.

(b) For airplanes having a midspar fuse pin, P/N 311T3102-2 or 311T2102-1: Prior to the accumulation of 15,000 total landings on the fuse pin, or within 90 days after June 10, 1994, whichever occurs later, perform a detailed inspection and an eddy current inspection to detect cracks on the midspar fuse pins, in accordance with Boeing Alert Service Bulletin 767-54A0062, dated April 14, 1994; or Boeing Alert Service Bulletin 767-54A0062, Revision 5, dated November 11, 2002. Repeat these inspections thereafter at intervals not to exceed 3,000 landings until accomplishment of paragraph (h) of this AD.

Replacement/Repetitive Inspections

(c) If any crack is found during an inspection required by paragraph (a) or (b) of this AD, prior to further flight, replace the cracked midspar fuse pin with a new fuse pin, in accordance with Boeing Alert Service Bulletin 767-54A0062, dated April 14, 1994; or Boeing Alert Service Bulletin 767-54A0062, Revision 5, dated November 11, 2002. Thereafter, perform the detailed and eddy current inspections specified in paragraph (a) or (b) of this AD, as applicable, on the new fuse pin at the time specified in paragraph (c)(1) or (c)(2) of this AD.

(1) For airplanes having midspar fuse pins, P/N 311T3102-1: Perform the initial inspection of the new fuse pin prior to the accumulation of 10,000 total landings on the new fuse pin. Repeat the inspection thereafter at intervals not to exceed 3,000 landings until accomplishment of paragraph (j) of this AD.

(2) For airplanes having midspar fuse pins, P/Ns 311T3102-2 and 311T2102-1: Perform the initial inspection of the new fuse pin prior to the accumulation of 15,000 total landings on the new fuse pin. Repeat the inspection thereafter at intervals not to exceed 3,000 landings until accomplishment of paragraph (j) of this AD.

Fuse Pin Removal

(d) When any fuse pin is removed from a strut equipped with a General Electric engine, the engine must be removed in accordance with procedures described in the Boeing 767 Maintenance Manual, subject 71-00-02; or supported in accordance with a method approved by the Manager, Seattle Aircraft Certification Office (ACO), FAA, Transport Airplane Directorate.

(e) When any fuse pin is removed from a strut equipped with a Pratt & Whitney engine, the engine must be removed in accordance with procedures described in the Boeing 767 Maintenance Manual, subject 71-00-02; or supported in accordance with procedures described in the Boeing 767 Maintenance Manual, subject 54-51-02, Temporary Revisions (TR), dated April 22, 1994; or supported in accordance with a method approved by the Manager, Seattle ACO.

(f) When any fuse pin is removed from a strut equipped with a Rolls-Royce engine, the engine must be removed in accordance with procedures described in the Boeing 767 Maintenance Manual, subject 71-00-02; or supported in accordance with procedures described in the Boeing 767 Maintenance Manual, subject 54-51-02; or supported in accordance with a method approved by the Manager, Seattle ACO.

(g) Any midspar fuse pin, P/N 311T3102-1, 311T3102-2, or 311T2102-1, that has been removed from the strut and inspected for cracks using the 100 percent magnetic particle inspection technique described in Boeing Alert Service Bulletin 767-54A0062, dated April 14, 1994; or Boeing Alert Service Bulletin 767-54A0062, Revision 5, dated November 11, 2002; may be reinstalled on the strut provided that the fuse pin is found to be crack-free during the magnetic particle inspection. Prior to the accumulation of 3,000 total landings after reinstallation of the fuse pin, the fuse pin must be inspected in accordance with the requirements of paragraph (a), (b), or (h) of this AD, as applicable.

New Requirements of this AD

Initial and Repetitive Inspections

(h) For airplanes having midspar fuse pins, P/Ns 311T3102-1, 311T3102-2, 311T3102-3, 311T3102-4, 311T2102-1 or 311T2102-2: Do a detailed inspection and an eddy current inspection for cracks and corrosion per Boeing Alert Service Bulletin 767-54A0062, Revision 5, dated November 11, 2002. Do the inspections at the later of the times specified in paragraphs (h)(1) and (h)(2) of this AD. Repeat the inspections at least every 3,000 landings or 5 years, whichever is first. Accomplishment of the initial inspections in this paragraph ends the repetitive inspections required by paragraphs (a) and (b) of this AD.

(1) Before the accumulation of 5,000 total landings on the fuse pin or within 5 years after fuse pin installation, whichever is first.

(2) Within 30 days after the effective date of this AD.

Corrective Action

(i) If any crack or corrosion is found during any inspection required by paragraph (h) of this AD, before further flight, do the actions required by paragraph (i)(1) or (i)(2) of this AD, as applicable, per Boeing Alert Service Bulletin 767-54A0062, Revision 5, dated November 11, 2002.

(1) If any crack is found, replace the midspar fuse pin with a new fuse pin.

(2) If any corrosion is found, repair the midspar fuse pin or replace with a new fuse pin.

Repetitive Inspections

(j) For airplanes identified in paragraph (h) of this AD: After the installation of a new midspar fuse pin, inspect the new fuse pin per paragraph (h) of this AD before the accumulation of 5,000 total landings on the fuse pin or within 5 years, whichever is first. Repeat the inspections at least every 3,000 landings or 5 years, whichever is first Accomplishment of this paragraph ends the repetitive inspections required by paragraph (c) of this AD.

Optional Terminating Action

(k) For all airplanes: Accomplishment of the rework of the side load fitting and tension fasteners, as applicable, and replacement of midspar fuse pins per Boeing Service Bulletin 767-54-0069, dated October 9, 1997; Revision 1, dated January 29, 1998; or Revision 2, dated August 31, 2000; ends the repetitive inspections required by this AD.

(l) Modification of the nacelle strut and wing structure as required by AD 2000-19-09, amendment 39-11910 (applicable to certain Boeing Model 767 series airplanes powered by Rolls-Royce RB211 series engines); AD 2001-02-07, amendment 39-12091 (applicable to certain Boeing Model 767 series airplanes powered by Pratt & Whitney engines); or AD 2001-06-12, amendment 39-12159 (applicable to certain Boeing Model 767 series airplanes powered by General Electric engines); as applicable; ends the repetitive inspections required by this AD.

“Operator's Equivalent Procedure”

(m) Though Boeing Alert Service Bulletin 767-54A0062, Revision 5, dated November 11, 2002, specifies that an “operator's equivalent procedure” may be used for all actions for which the Boeing 767 Airplane Maintenance Manual (AMM) is specified as the appropriate source of service information: Engine removal and support, when any fuse pin is removed from a strut, must be done according to the applicable section of the Boeing 767 Airplane Maintenance Manual, as specified in the service bulletin.

Actions Done per Previously Issued Service Information

(n) Inspections and replacements done before the effective date of this AD per Boeing Alert Service Bulletin 767-54A0062, Revision 1, dated May 11, 1994; Revision 2, dated December 21, 1994; Revision 3, dated June 15, 1995; or Revision 4, dated May 7, 1998; are acceptable for compliance with the applicable actions specified in this AD.

Alternative Methods of Compliance

(o)(1) An alternative method of compliance or adjustment of the compliance time that provides an acceptable level of safety may be used if approved by the Manager, Seattle ACO. Operators shall submit their requests through an appropriate FAA Principal Maintenance Inspector, who may add comments and then send it to the Manager, Seattle ACO.

(2) Alternative methods of compliance, approved previously in accordance with AD 94-11-02, amendment 39-8918, are approved as alternative methods of compliance with the applicable actions specified in this AD.

Note 3: Information concerning the existence of approved alternative methods of compliance with this AD, if any, may be obtained from the Seattle ACO.

Special Flight Permits

(p) Special flight permits may be issued in accordance with sections 21.197 and 21.199 of the Federal Aviation Regulations (14 CFR 21.197 and 21.199) to operate the airplane to a location where the requirements of this AD can be accomplished.

Incorporation by Reference

(q) Unless otherwise provided in this AD, the actions shall be done in accordance with Boeing Alert Service Bulletin 767-54A0062, dated April 14, 1994; and Boeing Alert Service Bulletin 767-54A0062, Revision 5, dated November 11, 2002.

(1) The incorporation by reference of Boeing Alert Service Bulletin 767-54A0062, Revision 5, dated November 11, 2002, is approved by the Director of the Federal Register in accordance with 5 U.S.C. 552(a) and 1 CFR part 51.

(2) The incorporation by reference of Boeing Alert Service Bulletin 767-54A0062, dated April 14, 1994, was approved previously by the Director of the Federal Register as of June 10, 1994 (59 FR 27229, May 26, 1994).

(3) Copies may be obtained from Boeing Commercial Airplane Group, PO Box 3707, Seattle, Washington 98124-2207. Copies may be inspected at the FAA, Transport Airplane Directorate, 1601 Lind Avenue, SW., Renton, Washington; or at the Office of the Federal Register, 800 North Capitol Street, NW., suite 700, Washington, DC.

Effective Date

(r) This amendment becomes effective on February 13, 2003.

Issued in Renton, Washington, on January 22, 2003.
Vi L. Lipski,
Manager, Transport Airplane Directorate, Aircraft Certification Service.

[FR Doc. 03-1827 Filed 1-28-03; 8:45 am]

BILLING CODE 4910-13-P